NUCLEAR REGULATORY COMMISSION

Advisory Committee on Reactor Sageguards Joint Meeting of the ACRS Subcommittees on Thermal-Hydraulic Phenomena and on Future Plant Designs; Notice of Meeting

The ACRS Subcommittees on Thermal-Hydraulic Phenomena and on Future Plant Designs will hold a joint meeting on February 13-15, 2002, Room T-2B3, 11545 Rockville Pike, Rockville, Maryland.

Portions of the meeting may be closed to public attendance to discuss Westinghouse Electric Company and General Electric Nuclear Energy proprietary information per 5 U.S.C. 552b(c)(4).

The agenda for the subject meeting shall be as follows:

Wednesday, February 13, 2002—8:30 a.m. until the conclusion of business and Thursday, February 14, 2002—8:30 a.m. until 12 Noon

The Subcommittees will begin review of the license amendment request of Entergy Operations, Inc. for a core power uprate for the Arkansas Nuclear One, Unit 2 plant. Also, they will begin review the license amendment request of the Exelon Generation Company for a core power uprate for the Clinton Power Station, Unit 1.

Thursday, February 14, 2002—1 p.m. until the conclusion of business and Friday, February 15, 2002—8:30 a.m. until the conclusion of business

The Subcommittees will continue their review of the Phase 2 pre-application review of the Westinghouse Electric Company's AP1000 passive plant design.

The purpose of this meeting is to gather information, analyze relevant issues and facts, and formulate proposed positions and actions, as appropriate, for deliberation by the full Committee.

Oral statements may be presented by members of the public with the concurrence of the Subcommittee Chairman. Written statements will be accepted and made available to the Committee. Electronic recordings will be permitted only during those portions of the meeting that are open to the public, and questions may be asked only by members of the Subcommittees, their consultants, and staff. Persons desiring to make oral statements should notify the Designated Federal Official named below five days prior to the meeting, if possible, so that appropriate arrangements can be made.

During the initial portion of the meeting, the Subcommittees, along with any of its consultants who may be present, may exchange preliminary views regarding matters to be considered during the balance of the meeting.

The Subcommittees will then hear presentations by and hold discussions with representatives of the NRC staff, Entergy Operations, Inc., Exelon Generation Company, the Westinghouse Electric Company, GE Nuclear Energy, and other interested persons regarding this review.

Further information regarding topics to be discussed, the scheduling of sessions open to the public, whether the meeting has been canceled or rescheduled, and the Chairman's ruling on requests for the opportunity to present oral statements and the time allotted therefor, can be obtained by contacting the Designated Federal Official, Mr. Paul A. Boehnert (telephone 301-415-8065) between 7:30 a.m. and 5 p.m. (EST). Persons planning to attend this meeting are urged to contact the above named individual one or two working days prior to the meeting to be advised of any potential changes to the agenda, etc., that may have occurred.

Dated: January 22, 2002.
Sher Bahadur,
Associate Director for Technical Support.

[FR Doc. 02-2077 Filed 1-28-02; 8:45 am]

BILLING CODE 7590-01-P